DEPARTMENT OF TRANSPORTATION

National Highway Traffic Safety Administration

[Docket No. NHTSA-2022-0034]

Agency Information Collection Activities; Submission to the Office of Management and Budget for Review and Approval; Compliance Labeling Warning Devices

AGENCY: National Highway Traffic Safety Administration (NHTSA), Department of Transportation (DOT).

ACTION: Notice and request for public comment on the reinstatement of a previously approved collection of information.

SUMMARY: In compliance with the Paperwork Reduction Act of 1995, this notice announces that the Information Collection Request (ICR) summarized below, regarding the reinstatement of a previously approved collection of information on Federal Motor vehicle Safety Standard (FMVSS) No. 125, will be submitted to the Office of Management and Budget for review and approval. The ICR describes the labeling requirement for warning devices and its expected burden. A Federal Register Notice with a 60-day comment period soliciting comments on the following information collection was published on May 3, 2022. No comments were received.

DATES: Comments must be submitted on or before November 14, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Toyoaki Nogami, Office of Crash Avoidance Standards, National Highway Traffic Safety Administration, West Building—4th Floor—Room W43-462, 1200 New Jersey Avenue SE, Washington, DC 20590. He can be reached at (202) 366-1810. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on May 3, 2022 (87 FR 26253).

Title: 49 CFR 571.125. Standard No. 125; Warning devices, Compliance Labeling of Warning Devices.

OMB Control Number: 2127-0506.

Type of Request: Reinstatement of a previously approved information.

Type of Review Requested: Regular.

Length of Approval Requested: Three years from date of approval.

Summary of the Collection of Information: The National Traffic and Motor Vehicle Safety Act of 1966, authorizes the Secretary of Transportation (NHTSA by delegation), at 49 U.S.C. 30111 to issue Federal Motor Vehicle Safety Standards (FMVSS) that set performance standards for motor vehicles and items of motor vehicle equipment. 49 U.S.C. 30115 (https://www.govinfo.gov/link/uscode/49/30115) requires manufacturers of motor vehicles or motor vehicle equipment to certify that the vehicle or equipment complies with applicable motor vehicle safety standards prescribed under this chapter. Section 30115 further specifies that certification of equipment may be shown by a label or tag on the equipment or on the outside of the container in which the equipment is delivered to certify that items of motor vehicle equipment subject to FMVSS comply with all applicable standards. Further, the Secretary (NHTSA by delegation) is authorized, at 49 U.S.C. 30117 (https://www.govinfo.gov/link/uscode/49/30117), to require manufacturers to provide information to first purchasers of motor vehicles or motor vehicle equipment when the vehicle or equipment is purchased, in the form of printed matter placed in the vehicle or attached to the vehicle or motor vehicle equipment.

Federal Motor Vehicle Safety Standard (FMVSS) No. 125, “Warning devices” specifies requirements for devices, without self-containing energy sources, that are designed to be carried in buses and trucks with a Gross Vehicle Weight Rating (GVWR) greater than 10,000 pounds, although they can be carried in other vehicles. These devices are used to warn approaching traffic of the presence of a stopped vehicle. This requirement does not apply to devices designed to be permanently affixed to the vehicle. The purpose of the standard is to reduce deaths and injuries due to rear end collisions between moving traffic and disabled vehicles. To ensure that the warning devices provide effective warnings to approaching traffic of the presence of a stopped vehicle, the standard sets forth specific requirements for the chromaticity of the reflex reflective material and fluorescent material affixed to both faces of the device.

In addition to performance requirements, the FMVSS No. 125 requires manufacturers to permanently and legibly mark their warning devices with (a) the manufacturer's name, (b) the month and year of manufacture, and (c) the symbol DOT, or the statement that the warning device complies with all applicable FMVSS. Manufacturers must also provide, with each warning device they manufacture, instructions printed or attached to the device in a manner that cannot easily be removed, for the operator to understand its erection and placement and a recommendation that the driver activate the vehicle hazard warning signal lamps before leaving the vehicle.

Since the last notice, the total burden hours were revised from one hour to three hours based on the number of respondents and required reporting tasks. The total annual cost burden was revised from $26 to $4,075, and the number of responses increased from 2.85 million to 4.31 million based on the number of trucks registered in the United States. In addition, maintenance and materials costs were updated.

Description of the Need for the Information and Proposed Use of the Information: Manufacturers of warning devices are required to certify that their products meet the requirements of FMVSS No. 125. Without the identification information provided by the certification, NHTSA would be unable to identify the manufacturer of equipment that fails to meet the minimum performance for reflectivity and ability to withstand environmental conditions consistent with roadsides on which they are to be used. The instruction labeling also serves the safety purpose of FMVSS No. 125 by providing important information to operators, thereby increasing the likelihood of correct usage. Without labeling and instructions, a driver may not properly erect or place the warning devices in a manner that reduces the risk of rear end crashes with disabled vehicles. Federal Motor Carriers Safety Administration (FMCSA) also requires the placement of warning devices around buses and trucks that have a Gross Vehicle Weight Rating (GVWR) greater than 10,000 pounds, for warning to approaching traffic when they are disabled on a highway or shoulder. The labeling requirement assists FMCSA enforcement with the ability to verify that warning devices being used in commercial motor vehicles meet the minimum performance levels for safety.

Affected Public: Manufacturers of warning devices.

Estimated Number of Respondents: 3.

The respondents are likely to be manufacturers of warning devices. The agency estimates that currently there are three manufacturers producing warning devices for use in motor vehicles.

Frequency: As needed.

Number of Responses: 4,3200,000.

Estimated Total Annual Burden Hours: 3 hours.

NHTSA was able to identify three manufacturers of warning devices. NHTSA estimates there are approximately 4.32 million labels affixed to warning devices each year.

This is based on the total number of truck tractors and other medium- and heavy-duty trucks registrations, which was 14,369,339 in 2019.¹ NHTSA estimates that 1 out of 10 trucks requires a new set of warning devices each year or, approximately 1.44 million (1,436,934 or rounded to 1.44 million), and each warning device requires three labels. Accordingly, NHTSA estimates that the three respondents produce 4.32 million labels each year, for an annual average of 1.44 million labels per respondent. Because the labels are molded onto the warning devices and cases, NHTSA estimates that the only time burden associated with this collection is time required to log the production of the molding presses in a highly-automated production process, which NHTSA estimates will take each manufacturer 1 hour per year. Accordingly, NHTSA estimates the total burden for this collection to be 3 hours (3 respondents × 1 hour). Using the estimate from the Bureau of Labor Statistics (BLS) for the average hourly compensation for Molders and Molding Machine Setters, Operators, and Tenders, Metal and Plastic (BLS Occupation code 51-4070) in the Motor Vehicle Manufacturing Industry, NHTSA estimate the loaded labor cost is $34.67 per hour.² Thus, the total labor cost associated with the burden hours is $104.01 for all responses generated by all 3 respondents together. Table 1 provides a summary of the estimated burden hours and labor costs associated with those submissions.

¹ Bureau of Transportation Statistics, Table titled “Number of U.S. Truck Registrations by Type | Bureau of Transportation Statistics,” https://www.bts.gov/browse-statistical-products-and-data/national-transportation-statistics/number-us-truck.

² The hourly wage is estimated to be $24.48 per hour. National Industry-Specific Occupational Employment and Wage Estimates NAICS 336100—Motor Vehicle Manufacturing, May 2020, https://www.bls.gov/oes/current/naics4_336100.htm#51-0000, last accessed November 5, 2021. The Bureau of Labor Statistics estimates that wages represent 70.6 percent of total compensation to private workers, on average. Bureau of Labor Statistics. Employer Costs for Employee Compensation—June 2021. https://www.bls.gov/news.release/ecec.t04.htm, last accessed November 5, 2021. Therefore, NHTSA estimates the total hourly compensation cost to be $34.67.

Table 1—Summary of Burden Hours and Associated Labor Costs
Number of respondents | Estimated annual hour burden per respondent | Average hourly labor cost | Annual labor cost per respondent | Total annual burden hours | Total annual labor costs
3 | 1 hour | $34.67 ² | $34.67 | 3 | $104.01

Estimated Total Annual Burden Cost: $4,075 per year.

NHTSA estimates that the total annual cost to respondents is $4,075.00, or $.00094 per response ($4,075 ÷ 4.32 million labels). This cost is comprised of the annualized cost of depreciation of purchase and modification of the equipment required for molding the labels onto the warning devices and cases and the annual cost of materials required for the labeling.

The initial cost to the respondents was based on estimated costs for modifying the die-mold such that it creates the label during normal production. The cost to manufacturers of the label requirement is the amortization of the die mold modification and the additional material consumed. The labels are to be placed on every warning device manufactured. The labels are produced during the normal course of steady flow manufacturing operation without a direct time penalty. The sole method used for producing the label is a process by which the required information is molded into the parts and/or cases directly. The cost of modifying a die mold to include the required information is estimated to be $10,000 per mold. The typical life of a die-mold of this type is 30 years, for a straight-line depreciation of the molds ($10,000 divided by 30) equal to $333.33 per mold. Part of the required information is included on the molds that create the warning devices, while the remaining information (instructions) is included within the molds that create the cases that are supplied with the warning devices. Each of the three manufacturers is estimated to have 2 warning device molds and 2 case molds for a total of 12 molds. Accordingly, NHTSA estimates the total cost for equipment to be $4,000 per year (($333.33 × 4 molds) × 3 respondents = $4,000).

The additional material required to produce the instructions is expected to be very small because the engraving depth is approximately 0.1 mm with a text width of 0.5 mm and a length of 300 mm, resulting in a volume of material of 1.5 mm³ per warning device, or 6,480,000 mm³ per year (1.5 × 4.32 million devices). The price of polypropylene is estimated at $1,100 per ton with a density of 0.95 g/cm³ (1.0472 × 10−8 tons/mm³). The total material price is thus estimated to be $74.64 ((1.0472 × 10−8 tons/mm³) × $1,100 × 6,480,000 mm³) per year, rounded to $75 per year.

Table 2—Summary of Costs
| Estimated annual depreciation cost per mold | Number of molds per respondent | Annual cost per respondent | Number of respondents | Total annual cost burden all respondents
Die Mold Cost | $333.33 | 4 | $1,333.33 | 3 | $4,000.00
| Annual number of labels (m) | Annual number of labels per respondent (m) | Annual cost per respondent | Number of respondents | Total annual cost burden all respondents
Material Cost | 4.32 | 1.44 | 25.00 | 3 | 75.00
Total Costs |  |  | 1,358.33 |  | 4,075.00

Public Comments Invited:

You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Raymond R. Posten,
Associate Administrator for Rulemaking.

[FR Doc. 2022-22297 Filed 10-13-22; 8:45 am]

BILLING CODE 4910-59-P